DEPARTMENT OF THE INTERIOR

Bureau of Land Management

[LLCON05000 L16100000.DS0000]

Notice of Availability of the Draft Resource Management Plan Amendment and the Draft Environmental Impact Statement for Oil and Gas Development for the White River Field Office in Garfield, Moffat and Rio Blanco Counties, CO

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) Amendment and a Draft Environmental Impact Statement (EIS) for the White River Field Office (WRFO) and by this notice is announcing the opening of the comment period.

DATES: To ensure that comments will be considered, the BLM must receive written comments on the Draft RMP Amendment/Draft EIS within 90 days following the date the Environmental Protection Agency publishes this notice in the Federal Register. The BLM will announce future meetings or hearings and any other public participation activities at least 15 days in advance through public notices, media releases, and/or mailings.

ADDRESSES: You may submit comments related to the WRFO Oil and Gas Development Draft RMP Amendment/Draft EIS by any of the following methods:

• Email: Colorado_WROGEIS@blm.gov.

• Fax: 970-878-3805.

• Mail: BLM—WRFO, 220 East Market Street, Meeker, Colorado 81641.

Copies of the WRFO Oil and Gas Development Draft RMP Amendment/Draft EIS are available in the WRFO at the above address or on the WRFO Web site at: http://www.blm.gov/co/st/en/fo/wrfo.html.

FOR FURTHER INFORMATION CONTACT: For further information contact Heather Sauls, Planning and Environmental Coordinator, telephone 970-878-3855; see address above; email hsauls@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the WRFO Oil and Gas Development Draft RMP Amendment/Draft EIS to evaluate and amend, as necessary, the current management decisions for oil and natural gas resources within the WRFO planning area. The current management decisions for oil and natural gas resources are described in the White River Record of Decision and Approved Resource Management Plan (RMP) (approved July 1, 1997), as amended (1997 WRFO RMP).

The Draft RMP Amendment/Draft EIS addresses public lands and resources managed by the WRFO. The WRFO planning area includes approximately 2.7 million acres of BLM, National Park Service, U.S. Forest Service, State, and private lands. It is located in northwestern Colorado, primarily in Rio Blanco County, with additional tracts located in Moffat and Garfield counties. Within the WRFO planning area, the BLM administers approximately 1.5 million surface acres and 2.2 million acres of Federal oil and natural gas mineral (subsurface) estate. Surface management decisions made as a result of this Draft RMP Amendment/Draft EIS will apply only to the BLM-administered lands in the WRFO planning area.

The WRFO has determined that an amendment to the current RMP is necessary to address an unanticipated increase in the rate of oil and natural gas development. The 1997 WRFO RMP projected and analyzed a Reasonable Foreseeable Development (RFD) Scenario of 1,100 oil and natural gas wells, with 10 acres of disturbance per well, over a 20-year period. The 2007 RFD Scenario indicates that the potential exists to develop as many as 21,200 new wells on 2,556 multiple well pads, resulting in 31,257 acres of associated surface disturbance. The purpose of the WRFO Oil and Gas Development Draft RMP Amendment/Draft EIS is to provide effective management direction for public lands administered by the WRFO that analyzes oil and natural gas exploration and development activities in excess of levels evaluated in the 1997 WRFO RMP. During the development of the Draft RMP Amendment/Draft EIS, the BLM reviewed the decisions contained in the 1997 WRFO RMP. Many decisions contained in the 1997 WRFO RMP are adequate and remain valid. The BLM intends to carry those management decisions forward, in addition to the management decisions approved through this Draft RMP Amendment/Draft EIS process. None of the alternatives in this amendment considers the creation of new special designations, management of lands with wilderness characteristics, or changes which areas are open or closed to oil and natural gas leasing. These allocation decisions made in the 1997 WRFO RMP are still valid.

The Draft RMP Amendment/Draft EIS evaluates four alternatives in detail, including the No Action Alternative (Alternative A) and three action alternatives (Alternatives B, C and D). The BLM identified Alternative C as the preferred alternative. However, it is important to note that identification of a preferred alternative does not constitute a commitment or decision in principle, and there is no requirement to select the preferred alternative in the Record of Decision. Various parts of separate alternatives analyzed in the draft can also be “mixed and matched” to develop a complete alternative in the final EIS. Alternative A would retain the current management goals, objectives, and direction specified in the 1997 WRFO RMP, updating the 20-year development projection. Alternative B incorporates a managed development approach that offers operator incentives for concentrated development (e.g., year-round drilling instead of timing limitations if development does not exceed a particular threshold) and emphasizes conservation and protection of other resources by limiting the duration and overall extent of oil and natural gas development. Its focus is on protection of resources and sustaining the ecological integrity of habitats for all priority plant, wildlife, and fish species, particularly the habitats needed for conserving and recovering threatened and endangered plant and animal species. Alternative C also incorporates a managed development approach, but higher disturbance thresholds, more exceptions and modifications to lease stipulations could be granted compared to Alternative B. Alternative C emphasizes a balance among competing human interests, land uses, and natural and cultural resource value conservation by strategically addressing demands across the landscape. Alternative D emphasizes maximizing oil and natural gas production while maintaining the basic protection needed to sustain resources afforded by applicable laws, regulations, and BLM policy.

The BLM used public scoping comments to help identify planning issues to direct the formulation of alternatives and to frame the scope of analysis in the Draft RMP Amendment/Draft EIS. The BLM also used the scoping process to introduce the public to preliminary planning criteria, which set limits on the scope of the Draft RMP Amendment/Draft EIS.

Major issues considered in the Draft RMP Amendment/Draft EIS include air and water quality, biological resources, wild horse and rangeland management, fire management, special designations, cultural and paleontological resources, American Indian concerns, recreation management, social and economic values, utility corridors, roads and travel management, and visual resource management among others. The Draft RMP Amendment/Draft EIS details a range of possible mitigation measures to reduce impacts to Greater Sage-Grouse and their habitat. In addition, the BLM Colorado Northwest District is preparing a Greater Sage-Grouse EIS that may result in a subsequent WRFO RMP amendment prescribing additional protections for the Greater Sage-Grouse.

Please note that public comments and information submitted including names, street addresses, and email addresses of persons who submit comments will be available for public review and disclosure at the above address during regular business hours (8:00 a.m. to 4:00 p.m.), Monday through Friday, except holidays.

Before including your address, phone number, email address, or other personal identifying information in your comment, you should be aware that your entire Comment—including your personal identifying information—may be made publicly available at any time. While you can ask us in your comment to withhold your personal identifying information from public review, we cannot guarantee that we will be able to do so.

Authority: 40 CFR 1506.6, 40 CFR 1506.10, 43 CFR 1610.2

Helen M. Hankins,
BLM Colorado State Director.

[FR Doc. 2012-21939 Filed 9-6-12; 8:45 am]

BILLING CODE 4310-JB-P